DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from September 14, to September18, 2009.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: November 17, 2009.
J. Paul Loether,
Chief, National Register of Historic Places/National Historic Landmarks Program.

KEY: State, County, Property Name, Address/Boundary, City, Vicinity, Reference Number, Action, Date, Multiple Name

ALABAMA

Monroe County

Monroeville Downtown Historic District, Parts of N. and S. Alabama Aves., E. and W. Claiborne St., N. and S. Monut Pleasant Aves., Pineville Rd., Monroeville, 09000606, LISTED, 9/16/09

ARKANSAS

Poinsett County

Harrisburg Commercial Historic District, Roughly bounded by Jackson, Water, South & Gould Sts., Harrisburg, 09000736, LISTED, 9/18/09

Marked Tree Commercial Historic District, Elm St. between Liberty & Frisco Sts.; Frisco St. between Elm and Nathan Sts., Marked Tree, 09000735, LISTED, 9/18/09

Pope County

Atkins Commercial Historic District, Roughly bounded by Main, Church, & 1st Sts., Ave., 2., Atkins, 09000739, LISTED, 9/18/09

IOWA

Black Hawk County

Fowler Company Building, The,

226-228 E. 4th St., Waterloo, 09000712, LISTED, 9/16/09

Dubuque County

Schrup, John and Marie (Palen) Farmstead Historic District, 10086 Lake Eleanor Rd., Dubuque vicinity, 09000713, LISTED, 9/16/09

Poweshiek County

Kent Union Chapel and Cemetery, 3386 V18 Rd., Brooklyn vicinity, 09000715, LISTED, 9/16/09

MASSACHUSETTS

Berkshire County

Tyringham Cemetery, Church Rd., Tyringham, 09000716, LISTED, 9/16/09

Suffolk County

Fairview Cemetery, 45 Fairview Ave., Boston, 09000717, LISTED, 9/16/09

MISSISSIPPI

Coahoma County

Clarksdale Historic District, Roughly bounded by the Sunflower R., 10th St., DeSoto Ave. & Clark St., Clarksdale, 09000763, LISTED, 9/14/09

MISSOURI

Adair County,

Travelers Hotel, 301 W. Washington St., Kirksville, 09000718, LISTED, 9/16/09

St. Louis County

Meramec River U.S. Bridge—J421, Historic U.S. Rt. 66 spanning the Meramec River, Eureka vicinity, 09000888, LISTED, 9/16/09 (Route 66 in Missouri MPS)

St. Louis Independent City

Grand—Bates Suburb Historic District, Roughly bounded by Bates St., Grand Blvd., I-55, Alaska Ave., Fillmore & Iron Sts., St. Louis, 09000719, LISTED, 9/16/09

NEW YORK

Montgomery County

Kilts Farmstead, Address Restricted, Stone Arabia vicinity, 09000721, LISTED, 9/18/09

New York County

Trinity Lutheran Church of Manhattan, 164 W. 100th St., New York, 09000722, LISTED, 9/16/09

Saratoga County

Bullard Block, 90-98 Broad St., Schuylerville vicinity, 09000723, LISTED, 9/16/09

NORTH CAROLINA

Robeson County

Surles, W.R. Memorial Library, 105 W. Main St., Proctorville, 09000725, LISTED, 9/16/09

VIRGINIA

Danville Independent City

Hylton Hall, 700 Lanier Ave., Danville (Independent City), 09000726, LISTED, 9/14/09

Goochland County

Oak Grove, 664 Manakin Rd., Manikan-Sabot, 09000727, LISTED, 9/16/09

Highland County

Crab Run Lane Truss Bridge, VA 645 over Crab Run, McDowell, 09000728, LISTED, 9/16/09

Hopewell Independent City

Hopewell High School Complex, 1201 City Point Rd., Hopewell (Independent City), 09000729, LISTED, 9/16/09

Richmond Independent City

Ninth Street Office Building, 202 N. 9th St., Richmond (Independent City), 09000730, LISTED, 9/16/09

Richmond Independent City

West Franklin Street Historic District (Boundary Increase), 900 blk. West Grace St., 4000 blk. N. Harrison St., 300 blk. Shafer St., Richmond (Independent City), 09000731, LISTED, 9/16/09

WASHINGTON

Thurston County

Millersylvania State Park, 12245 Tilley Rd., Olympia, 09000732, LISTED, 9/16/09

WEST VIRGINIA

Jefferson County

South Charles Town Historic District, S. George, S. Mildred, S. Samuel, & S. Church Sts., Charles Town, 09000733, LISTED, 9/16/09

[FR Doc. E9-28231 Filed 11-24-09; 8:45 am]

BILLING CODE P